DEPARTMENT OF COMMERCE

International Trade Administration

[A-570-904]

Certain Activated Carbon From the People's Republic of China: Notice of Initiation and Preliminary Results of Antidumping Duty Changed Circumstances Review

AGENCY: Enforcement and Compliance, International Trade Administration, Department of Commerce.

SUMMARY: The Department of Commerce (Commerce) is initiating a changed circumstances review (CCR) of the antidumping duty (AD) order on certain activated carbon (activated carbon) from the People's Republic of China (China). Further, Commerce preliminarily determines that Jacobi Carbons AB (Jacobi AB) and its affiliates, Tianjin Jacobi International Trading Co. Ltd. (Tianjin Jacobi) and Jacobi Carbons Industry (Tianjin) Co. Ltd. (JCC) (collectively, Jacobi), should be collapsed with its new wholly-owned Chinese affiliate, Jacobi Adsorbent Materials (JAM), and the single entity, inclusive of JAM, should be assigned the same AD cash deposit rate assigned to Jacobi for purposes of determining AD liability in this proceeding. Interested parties are invited to comment on these preliminary results.

DATES: Applicable September 7, 2021.

FOR FURTHER INFORMATION CONTACT: Josh Simonidis or Jinny Ahn, AD/CVD Operations, Office VIII, Enforcement and Compliance, International Trade Administration, Department of Commerce, 1401 Constitution Avenue NW, Washington, DC 20230; telephone: (202) 482-0608 or (202) 482-0339, respectively.

SUPPLEMENTARY INFORMATION:

Background

On April 27, 2007, Commerce published in the Federal Register an AD order on activated carbon from China.¹ In the original investigation, we selected Jacobi AB as a mandatory respondent which qualified for a separate rate.² In the third administrative review, Commerce determined that Jacobi AB and its two Chinese subsidiaries, JCC and Tianjin Jacobi, should be treated as a single entity (collectively, Jacobi) and assigned a single cash deposit rate.³ In the most recently completed administrative review covering the period April 1, 2018, through March 31, 2019, we assigned Jacobi a separate rate, as a non-individually examined exporter under review.⁴

¹ See Notice of Antidumping Duty Order: Certain Activated Carbon from the People's Republic of China, 72 FR 20988 (April 27, 2007) (Order).

² Id.

³ See Certain Activated Carbon from the People's Republic of China: Final Results and Partial Rescission of the Third Antidumping Duty Administrative Review, 76 FR 67142 (October 31, 2011).

⁴ See Certain Activated Carbon from the People's Republic of China: Final Results of Antidumping Duty Administrative Review, Final Determination of No Shipments, and Final Rescission of Administrative Review, in Part; 2018-2019, 86 FR 10539 (February 22, 2021).

On July 26, 2021, Jacobi requested that Commerce conduct a CCR of the Order to confirm that Jacobi AB and its two affiliated firms, Tianjin Jacobi and JCC, with the addition of its new wholly-owned subsidiary, JAM, is the successor-in-interest to Jacobi.⁵ Given the circumstances and evidence submitted by Jacobi, Commerce finds it more appropriate to instead evaluate Jacobi's CCR request through a collapsing analysis. No interested parties filed comments opposing the CCR request.

⁵ See Jacobi's Letter, “Jacobi's Request for Changed Circumstances Review,” dated July 26, 2021.

Scope of the Order

The merchandise covered by the scope of this Order is activated carbon. For a complete description of the scope of the Order, see the Preliminary Decision Memorandum.⁶

⁶ See Memorandum, “Decision Memorandum for the Initiation and Preliminary Results of the Changed Circumstances Review of the Antidumping Duty Order on Certain Activated Carbon from the People's Republic of China,” dated concurrently with, and hereby adopted by, this notice (Preliminary Decision Memorandum).

Methodology

We are conducting this CCR in accordance with section 751(b)(1) of the Tariff Act of 1930, as amended (the Act). For a full description of the methodology underlying our conclusions, see the Preliminary Decision Memorandum.

Initiation and Preliminary Results of CCR

Pursuant to section 751(b)(1) of the Act, and 19 CFR 351.216, Commerce will conduct a CCR upon receipt of information concerning, or a request from an interested party for a review of, an AD order which shows changed circumstances sufficient to warrant a review of the order. The information submitted by Jacobi supports its claim that JAM should be treated as part of the Jacobi entity and demonstrates changed circumstances sufficient to warrant such a review.⁷ Therefore, in accordance with 751(b)(1)(A) of the Act and 19 CFR 351.216(d), we are initiating a CCR based on the information contained in the CCR request.

⁷ See 19 CFR 351.216(d).

Pursuant to 19 CFR 351.221(c)(3)(ii), Commerce can combine the notice of initiation of a CCR and the notice of the preliminary results of a CCR into a single notice if Commerce concludes that expedited action is warranted. In this instance, because the record contains the information necessary to make a preliminary finding, we find that expedited action is warranted and have combined the notice of initiation and the notice of preliminary results.⁸

⁸ See 19 CFR 351.221(c)(3)(ii); see also, e.g., Notice of Initiation and Preliminary Results of Changed Circumstances Reviews: Certain Passenger Vehicle and Light Truck Tires from the People's Republic of China, 85 FR 5193 (January 29, 2020), unchanged in Certain Passenger Vehicle and Light Truck Tires from the People's Republic of China: Final Results of Changed Circumstances Reviews, 85 FR 14638 (March 13, 2020).

We preliminarily determine that Jacobi and JAM are affiliated and should be collapsed as a single entity. Specifically, we find that JAM is directly controlled by Jacobi, thereby meeting the affiliation criteria, in accordance with sections 771(33)(E) and (F) of the Act. In addition, we preliminarily find that the criteria of 19 CFR 351.401(f) are met and, thus, Jacobi and JAM should be treated as a single entity. A list of topics discussed in the Preliminary Decision Memorandum appears in the Appendix to this notice.

Should our final results remain unchanged from these preliminary results, we will instruct U.S. Customs and Border Protection to assign entries of subject merchandise exported by JAM the AD cash deposit rate applicable to Jacobi (i.e., $0.65/kg). Commerce will issue its final results of the review in accordance with the time limits set forth in 19 CFR 351.216(e).

Public Comment

Pursuant to 19 CFR 351.310(c), any interested party may request a hearing within 14 days of publication of this notice.⁹ In accordance with 19 CFR 351.309(c)(1)(ii), interested parties may submit case briefs not later than 14 days after the date of publication of this notice.¹⁰ Rebuttal briefs, limited to issues raised in the case briefs, may be filed no later than seven days after the case briefs, in accordance with 19 CFR 351.309(d).¹¹ Parties who submit case or rebuttal briefs are encouraged to submit with each argument: (1) A statement of the issue; (2) a brief summary of the argument; and (3) a table of authorities.¹² All comments are to be filed electronically using Enforcement and Compliance's Antidumping and Countervailing Duty Centralized Electronic Service System (ACCESS) available to registered users at https://access.trade.gov, and must also be served on interested parties. An electronically filed document must be received successfully in its entirety by ACCESS by 5:00 p.m. Eastern Time on the day it is due.¹³ Note that Commerce has temporarily modified certain requirements for serving documents containing business proprietary information, until further notice.¹⁴

⁹ Commerce is exercising its discretion under 19 CFR 351.310(c) to alter the time limit for requesting a hearing.

¹⁰ Commerce is exercising its discretion under 19 CFR 351.309(c)(1)(ii) to alter the time limit for the filing of case briefs.

¹¹ See Temporary Rule Modifying AD/CVD Service Requirements Due to COVID-19, 85 FR 17006, 17007 (March 26, 2020).

¹² See 19 CFR 351.309(c)(2).

¹³ See 19 CFR 351.303(b).

¹⁴ See Temporary Rule Modifying AD/CVD Service Requirements Due to COVID-19; Extension of Effective Period, 85 FR 41363 (July 10, 2020).

Consistent with 19 CFR 351.216(e), Commerce will issue the final results of this CCR no later than 270 days after the date on which this review was initiated, or within 45 days of publication of these preliminary results, if all parties agree to our preliminary finding.

This notice is published in accordance with sections 751(b)(1) and 777(i) of the Act and 19 CFR 351.216(b) and 351.221(c)(3)(ii).

Dated: September 1, 2021.
Christian Marsh,
Acting Assistant Secretary for Enforcement and Compliance.

Appendix—List of Topics Discussed in the Preliminary Decision Memorandum

I. Summary

II. Background

III. Scope of the Order

IV. Initiation and Preliminary Results of the Changed Circumstances Review

V. Methodology

A. Affiliation

B. Collapsing

VI. Recommendation

[FR Doc. 2021-19369 Filed 9-3-21; 8:45 am]

BILLING CODE 3510-DS-P